NATIONAL FOUNDATION ON THE ARTS AND THE HUMANITIES

National Endowment for the Humanities

Meetings of Humanities Panel

AGENCY: National Endowment for the Humanities, National Foundation on the Arts and the Humanities.

ACTION: Notice of meetings.

SUMMARY: The National Endowment for the Humanities will hold fifteen meetings of the Humanities Panel, a federal advisory committee, during October, 2016. The purpose of the meetings is for panel review, discussion, evaluation, and recommendation of applications for financial assistance under the National Foundation on the Arts and Humanities Act of 1965.

DATES: See SUPPLEMENTARY INFORMATION section for meeting dates. The meetings will open at 8:30 a.m. and will adjourn by 5:00 p.m. on the dates specified below.

ADDRESSES: The meetings will be held at the National Endowment for the Humanities at Constitution Center at 400 7th Street SW., Washington, DC 20506.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. Date: October 6, 2016.

This meeting will discuss applications on the subjects of U.S. History and Culture: Military and Political History, for the Humanities Collections and Reference Resources grant program, submitted to the Division of Preservation and Access.

2. Date: October 13, 2016.

This meeting will discuss applications on the subject of the History of Science, Medicine and the Environment, for the Humanities Collections and Reference Resources grant program, submitted to the Division of Preservation and Access.

3. Date: October 14, 2016.

This meeting will discuss applications on the subject of U.S. History and Culture: Early American History, for the Humanities Collections and Reference Resources grant program, submitted to the Division of Preservation and Access.

4. Date: October 18, 2016.

This meeting will discuss applications on the subject of History for Media Projects: Development Grants, submitted to the Division of Public Programs.

5. Date: October 20, 2016.

This meeting will discuss applications on the subject of History for Media Projects: Production Grants, submitted to the Division of Public Programs.

6. Date: October 20, 2016.

This meeting will discuss applications on the subject of U.S. History and Culture: Social History, for the Humanities Collections and Reference Resources grant program, submitted to the Division of Preservation and Access.

7. Date: October 21, 2016.

This meeting will discuss applications on the subjects of Music and Performing Arts, for the Humanities Collections and Reference Resources grant program, submitted to the Division of Preservation and Access.

8. Date: October 24, 2016.

This meeting will discuss applications on the subjects of Immigration, Race, and Ethnicity, for the Public Humanities Projects—Community Conversations grant program (implementation grants), submitted to the Division of Public Programs.

9. Date: October 25, 2016.

This meeting will discuss applications on the subject of History, for the Public Humanities Projects—Historic Places grant program (planning grants), submitted to the Division of Public Programs.

10. Date: October 25, 2016.

This meeting will discuss applications on the subjects of Art and Architectural History, for the Humanities Collections and Reference Resources grant program, submitted to the Division of Preservation and Access.

11. Date: October 26, 2016.

This meeting will discuss applications on the subject of Indigenous Studies, for the Humanities Collections and Reference Resources grant program submitted to the Division of Preservation and Access.

12. Date: October 26, 2016.

This meeting will discuss applications on the subjects of U.S. History and Civics, for the Public Humanities Projects—Community Conversations grant program (implementation grants), submitted to the Division of Public Programs.

13. Date: October 27, 2016.

This meeting will discuss applications on the subject of American Studies: Media Studies, for the Humanities Collections and Reference Resources grant program, submitted to the Division of Preservation and Access.

14. Date: October 27, 2016.

This meeting will discuss applications on the subject of Culture, for Media Projects: Production Grants, submitted to the Division of Public Programs.

15. Date: October 31, 2016.

This meeting will discuss applications on the subject of Culture for Media Projects: Development Grants, submitted to the Division of Public Programs.

Because these meetings will include review of personal and/or proprietary financial and commercial information given in confidence to the agency by grant applicants, the meetings will be closed to the public pursuant to sections 552b(c)(4) and 552b(c)(6) of Title 5, U.S.C., as amended. The Committee Management Officer, Elizabeth Voyatzis, has made this determination pursuant to the authority granted her by the Chairman's Delegation of Authority to Close Advisory Committee Meetings dated April 15, 2016.

Dated: September 12, 2016.
Elizabeth Voyatzis,
Committee Management Officer.

[FR Doc. 2016-22192 Filed 9-14-16; 8:45 am]

BILLING CODE 7536-01-P